ENVIRONMENTAL PROTECTION AGENCY

[FRL-9088-5]

Notice of Availability of Final Modification of National Pollutant Discharge Elimination System (NPDES) General Permit for Offshore Oil and Gas Exploration, Development and Production Operations Off Southern California

AGENCY: Environmental Protection Agency (EPA).

ACTION: Notice of availability of final NPDES general permit modification.

SUMMARY: EPA Region 9 is today issuing certain final modifications of its general NPDES permit (permit No. CAG280000) for discharges from offshore oil and gas exploration, development and production facilities located in Federal waters off the coast of Southern California. Region 9 proposed the permit modifications on April 3, 2009 (74 FR 15267), and the public comment period for the proposal concluded on May 4, 2009.

During the public comment period, Region 9 received written comments from four parties concerning the proposed modifications. Region 9 has prepared a separate document (“Response to Public Comments”) that discusses the comments in more detail and Region 9's responses to the comments. The final permit modifications differ only slightly from the proposed modifications. The changes from the proposal are discussed in more detail in the Addendum to Fact Sheet and in the Response to Public Comments.

The final modified general permit establishes effluent limitations, prohibitions, and other conditions on discharges from facilities authorized by this general permit. These conditions are based on the administrative record.

DATES: The effective date of the permit modification is November 30, 2009. The permit modification is being issued pursuant to 40 CFR 124.15.

ADDRESSES: The final modified general permit and other related documents in the administrative record are on file and may be inspected any time between 8:30 a.m. and 4 p.m., Monday through Friday, excluding legal holidays, at the following address: U.S. EPA, Region 9, NPDES Permits Office (WTR-5), 75 Hawthorne Street, San Francisco, CA 94105-3901.

FOR FURTHER INFORMATION CONTACT: Eugene Bromley, EPA, Region 9, NPDES Permits Office (WTR-5), 75 Hawthorne Street, San Francisco, California 94105-3901, or telephone (415) 972-3510. Copies of the final general permit modification, the Addendum to Fact Sheet and the Response to Public Comments will be provided upon request, and are also available on EPA, Region 9's Web site at: http://www.epa.gov/region09/water/.

Authority: Clean Water Act, 33 U.S.C. 1251 et seq.

Dated: November 24, 2009.
Alexis Strauss,
Director, Water Division, EPA Region 9.

[FR Doc. E9-29078 Filed 12-4-09; 8:45 am]

BILLING CODE 6560-50-P